ENVIRONMENTAL PROTECTION AGENCY

[ER-FRL-8592-8]

Environmental Impacts Statements; Notice of Availability

Responsible Agency: Office of Federal Activities, General Information (202) 564-1399 or http://www.epa.gov/compliance/nepa/.

Weekly receipt of Environmental Impact Statements.

Filed 04/20/2009 Through 04/24/2009.

Pursuant to 40 CFR 1506.9.

EIS No. 20090126, Draft EIS, FHW, NC, Monroe Connector/Bypass Project, Construction from Near I-485 at US &4 to US 74 between the Tons of Wingate and Marshville, Funding and US COE 404 Permit, North Carolina Turnpike Authority, Meckleburg and Union Counties, NC, Comment Period Ends: 06/15/2009, Contact: Jennifer Harris 919-571-3004.

EIS No. 20090127, Draft EIS, FHW, TN, Interstate 55 Interchange at E.H. Crump Boulevard and South Boulevard Project, To Provide a Balanced Solution for Safety and Capacity Issues at the I55 Interchange, City of Memphis, Shelby County, TN, Comment Period Ends: 06/30/2009, Contact: Charles J. O'Neill 615-781-5772.

EIS No. 20090128, Final EIS, AFS, CA, Gemmill Thin Project, Proposal to Reduce the Intensity and Size of Future Wildfires, and to Maintain/Improve Ecosystem Function and Wildlife Habitat, Chanchellula Late-Successional Reserve, Shasta-Trinity National Forest, Trinity County, CA, Wait Period Ends: 06/01/2009, Contact: Bobbie DiMonte 530-226-2425.

EIS No. 20090129, Final EIS, AFS, CA, Round Valley Fuels Reduction and Vegetation Management Project, Proposes to Reduce Fuel and Manage Vegetation, Funding, Goosenest Ranger District, Klamath National Forest, Siskiyou County, CA, Wait Period Ends: 06/01/2009, Contact: Wendy Dobrowolski 530-398-4391.

EIS No. 20090130, Final EIS, NPS, TN, Great Smoky Mountains National Park General Management Plan Amendment, Implementation, Elkmont Historic District, Sevier County, TN, Wait Period Ends: 06/01/2009, Contact: Amu Wirching 404-507-5708.

EIS No. 20090131, Draft EIS, AFS, WI, Grub Hoe Vegetation and Transportation Management Project, Proposes to Implement Vegetation Management Activities, Eagle River Florence Ranger District, Chequamegon-Nicolet National Forest, Florence County, WI, Comment Period Ends: 06/15/2009, Contact: Christine Brunner 715-479-2827.

EIS No. 20090132, Draft EIS, NPS, 00, Harpers Ferry National Historical Park, General Management Plan, Implementation, Harpers Ferry, Jefferson County, WV; Loudoun County, VA; and Washington County, MD, Comment Period Ends: 06/29/2009, Contact: Rebecca L. Harriett 304-535-6224.

EIS No. 20090133, Draft EIS, DOI, MD, Monocacy National Battlefield, General Management Plan, Implementation, Frederick County, MD, Comment Period Ends: 06/29/2009, Contact: Susan W. Trail 301-694-3147.

EIS No. 20090134, Draft EIS, COE, CA, Newhall Ranch Resource Management and Development Plan (RMDP) and the Spineflower Conservation Plan (SCP), Implementation, Portion of Santa Clara River Valley, Los Angeles County, CA, Comment Period Ends: 06/26/2009, Contact: Aaron O. Allen 805-585-2154.

EIS No. 20090135, Final EIS, BLM, NV, Lincoln County Land Act (LCLA) Groundwater Development and Utility Right-of-Way Project, Implementation, To Grant a Right-of-Way Permit for Groundwater Development and Utility Facilities, Lincoln County, NV, Wait Period Ends: 06/01/2009, Contact: Penny Woods 775-861-6466.

Amended Notices

EIS No. 20090069, Draft EIS, AFS, 00, Black Hills National Forest Travel Management Plan, Proposes to Designate Certain Roads and Trails Open to Motorized Travel, Custer, Fall River, Lawrence, Meade, Pennington Counties, SD and Crook and Weston Counties, WY, Comment Period Ends: 05/18/2009, Contact: Ed Fischer 605-673-9207. Revision to FR Notice Published 03/20/2009: Extending the Comment Period from 05/04/2009 to 05/18/2009.

EIS No. 20090115, Draft EIS, SFW, 00, Western Snowy Plover Habitat Conservation Plan, Proposed Issuance of an Incidental Take Permit, Oregon Parks and Recreation Department, Oregon Coast, OR, CA, WA, Comment Period Ends: 06/01/2009, Contact: Laura Todd 541-867-4558. Revision to FR Notice Published 04/17/2009: Change to Comment Period from 06/16/2009 to 06/01/2009.

Dated: April 28, 2009.
Ken Mittleholtz,
Environmental Protection Specialist, NEPA Compliance Division, Office of Federal Activities.

[FR Doc. E9-10079 Filed 4-30-09; 8:45 am]

BILLING CODE 6560-50-P